INTERNATIONAL TRADE COMMISSION

[Investigation Nos. 701-TA-253 and 731-TA-132, 252, 271, 273, 409, 410, 532-534, and 536 (Second Review)]

Certain Pipe and Tube From Argentina, Brazil, India, Korea, Mexico, Taiwan, Thailand, and Turkey

AGENCY: International Trade Commission.

ACTION: Notice of Commission determination to conduct full five-year reviews concerning the countervailing duty and antidumping duty orders on certain pipe and tube from Argentina, Brazil, India, Korea, Mexico, Taiwan, Thailand, and Turkey.

SUMMARY: The Commission hereby gives notice that it will proceed with full reviews pursuant to section 751(c)(5) of the Tariff Act of 1930 (19 U.S.C. § 1675(c)(5)) to determine whether revocation of the countervailing duty and antidumping duty orders on certain pipe and tube from Argentina, Brazil, India, Korea, Mexico, Taiwan, Thailand, and Turkey would be likely to lead to continuation or recurrence of material injury within a reasonably foreseeable time. A schedule for the reviews will be established and announced at a later date. For further information concerning the conduct of these reviews and rules of general application, consult the Commission's Rules of Practice and Procedure, part 201, subparts A through E (19 CFR part 201), and part 207, subparts A, D, E, and F (19 CFR part 207).

EFFECTIVE DATES: October 4, 2005.

FOR FURTHER INFORMATION CONTACT: Elizabeth Haines (202-205-3200), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On October 4, 2005, the Commission determined that it should proceed to full reviews in the subject five-year reviews pursuant to section 751(c)(5) of the Act.¹ The Commission found that the domestic interested party group response to its notice of institution (70 F.R. 38204, July 1, 2005) was adequate. The Commission found that the respondent interested party group responses with respect to the orders on welded carbon steel pipe and tube from Turkey and circular welded nonalloy steel pipe from Mexico were adequate, but found that the respondent interested party group responses with respect to the orders on welded carbon steel pipe and tube from Thailand and India, small diameter carbon steel pipe and tube from Taiwan, circular welded nonalloy steel pipe from Brazil, Korea, and Taiwan, and light-walled rectangular pipe and tube from Argentina and Taiwan were inadequate. However, the Commission determined to conduct full reviews concerning all orders for which the respondent interested party group response was inadequate to promote administrative efficiency in light of its decision to conduct full reviews with respect to the orders on subject imports from Mexico and Turkey. A record of the Commissioners' votes, the Commission's statement on adequacy, and any individual Commissioner's statements will be available from the Office of the Secretary and at the Commission's Web site.

¹ Vice Chairman Deanna Tanner Okun and Commissioners Jennifer A. Hillman and Daniel R. Pearson dissenting with respect to light-walled rectangular pipe and tube from Argentina and Taiwan, for which they voted to conduct expedited reviews.

Authority: These reviews are being conducted under authority of title VII of the Tariff Act of 1930; this notice is published pursuant to section 207.62 of the Commission's rules.

Issued: October 11, 2005.
By order of the Commission.
Marilyn R. Abbott,
Secretary to the Commission.

[FR Doc. 05-20670 Filed 10-14-05; 8:45 am]

BILLING CODE 4410-11-P